SECURITIES AND EXCHANGE COMMISSION

[File No. 500-1]

In the Matter of Bodisen Biotech, Inc., China Global Media, Inc., China Heli Resource Renewable, Inc., and GFR Pharmaceuticals, Inc.; Order of Suspension of Trading

May 20, 2016.

It appears to the Securities and Exchange Commission that there is a lack of current and accurate information concerning the securities of Bodisen Biotech, Inc. (CIK No. 1178552), a forfeited Delaware corporation with its principal place of business listed as Shaanxi, China with stock quoted on OTC Link (previously, “Pink Sheets”) operated by OTC Markets Group, Inc. (“OTC Link”) under the ticker symbol BBCZ, because it has not filed any periodic reports since the period ended June 30, 2013. On August 18, 2015, a delinquency letter was sent by the Division of Corporation Finance to Bodisen Biotech, Inc. requesting compliance with its periodic filing obligations, but Bodisen Biotech, Inc. refused to accept delivery of the delinquency letter.

It appears to the Securities and Exchange Commission that there is a lack of current and accurate information concerning the securities of China Global Media, Inc. (CIK No. 1450015), a revoked Nevada corporation with its principal place of business listed as Hunan Province, China with stock quoted on OTC Link under the ticker symbol CGLO, because it has not filed any periodic reports since the period ended June 30, 2013. On August 18, 2015, a delinquency letter was sent by the Division of Corporation Finance to China Global Media, Inc. requesting compliance with its periodic filing obligations, and China Global Media, Inc. did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of China Heli Resource Renewable, Inc. (CIK No. 1081823), a British Virgin Islands corporation with its principal place of business listed as Xin Jiang Province, China with stock quoted on OTC Link under the ticker symbol CRRWF, because it has not filed any periodic reports since the period ended December 31, 2012. On August 18, 2015, a delinquency letter was sent by the Division of Corporation Finance to China Heli Resource Renewable, Inc. requesting compliance with its periodic filing obligations, but China Heli Resource Renewable, Inc. did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of GFR Pharmaceuticals, Inc. (CIK No. 1096294), a Nevada corporation with its principal place of business listed as Shaanxi Province, China with stock quoted on OTC Link under the ticker symbol GFRP, because it has not filed any periodic reports since the period ended March 31, 2013. On November 3, 2015, a delinquency letter was sent by the Division of Corporation Finance to GFR Pharmaceuticals, Inc. requesting compliance with its periodic filing obligations, and GFR Pharmaceuticals, Inc. received the delinquency letter on November 9, 2015, but failed to cure its delinquencies.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 20, 2016, through 11:59 p.m. EDT on June 3, 2016.

By the Commission.
Brent J. Fields,
Secretary.

[FR Doc. 2016-12288 Filed 5-20-16; 11:15 am]

BILLING CODE 8011-01-P